Proclamation 10869 of December 6, 2024

National Pearl Harbor Remembrance Day, 2024

By the President of the United States of America

A Proclamation

On National Pearl Harbor Remembrance Day, we honor the 2,403 service members and civilians who were killed on that tragic December morning 83 years ago. And we recognize the absolute courage of the service members who, in the wake of this painful and unprovoked attack, stood up to defend democracy and stand up to fascism abroad in World War II.

As we reflect on the honors and triumphs of the Greatest Generation, we must remember that they risked all, dared all, and gave all not for a person or a place—but for the idea of America. They recognized that freedom is never guaranteed: Every generation has had to earn and defend it in the battle between autocracy and democracy. This service and sacrifice helped deliver a world grounded in peace and security. And together, these brave women and men proved that no force—not destruction, death, or the darkness of hate—is a match for the flame of liberty that ignites the hearts of free people everywhere.

Today, we must be keepers of their mission and bearers of the flame of freedom they kept burning bright. That begins by honoring our sacred obligation to care for our service members and veterans and their families, caregivers, and survivors—especially our World War II veterans whose actions ensured that democracy endured. That is why my Administration began enrolling all World War II veterans, regardless of length of service or financial status, in Veterans Affairs health care services. And we also expanded access to benefits for those who participated in testing and clean-up activities related to World War II weapons programs, helping address radiation related illnesses for veterans and civilians.

During National Pearl Harbor Remembrance Day, may we remember the brave patriots whose lives were cut short on this day 83 years ago. May we honor all the service members who gave their last full measure of devotion to defend democracy in the years that followed. And may we all recommit to fulfilling the future they fought for—one grounded in freedom, democracy, equality, and opportunity for all.

The Congress, by Public Law 103-308, as amended, has designated December 7 of each year as “National Pearl Harbor Remembrance Day.” Today, let us commemorate the patriots who perished and who were wounded on December 7, 1941, and continue to fulfill our sacred obligation to care for our service members; our veterans; and their families, caregivers, and survivors.

NOW, THEREFORE, I, JOSEPH R. BIDEN JR., President of the United States of America, do hereby proclaim December 7, 2024, as National Pearl Harbor Remembrance Day. I encourage all Americans to reflect on the courage shown by our brave service members that day and remember their sacrifices. I ask us all to give sincere thanks and appreciation to the survivors of that unthinkable day. I urge all Federal agencies, interested organizations, groups, and individuals to fly the flag of the United States at half-staff on December 7, 2024, in honor of those American patriots who died as a result of their service at Pearl Harbor.

IN WITNESS WHEREOF, I have hereunto set my hand this sixth day of December, in the year of our Lord two thousand twenty-four, and of the Independence of the United States of America the two hundred and forty-ninth.

[FR Doc. 2024-29337

Filed 12-10-24; 8:45 am]

Billing code 3395-F4-P